DEPARTMENT OF TRANSPORTATION

Surface Transportation Board

[Docket No. FD 35690]

Northern Plains Railroad, Inc.—Temporary Trackage Rights Exemption—Soo Line Railroad Company

Soo Line Railroad Company (Soo Line), pursuant to a written agreement dated October 4, 2012, has agreed to grant temporary overhead trackage rights to Northern Plains Railroad, Inc. (NPR) between milepost 128.9 at Mahnomen, Minn., and milepost 153.6 at Erskine, Minn., a distance of approximately 24.7 miles.¹

¹ In a letter filed on November 1, 2012, NPR provided the specific mileposts.

The transaction may be consummated on or after November 25, 2012, and the temporary trackage rights are scheduled to expire on or about December 24, 2012. The purpose of the temporary trackage rights is to permit NPR to operate bridge train service during certain programmed track, roadbed and structural maintenance on trackage it leases from Soo Line.

As a condition to this exemption, any employees affected by the trackage rights will be protected by the conditions imposed in Norfolk and Western Railway—Trackage Rights—Burlington Northern, Inc., 354 I.C.C. 605 (1978), as modified in Mendocino Coast Railway—Lease and Operate—California Western Railroad, 360 I.C.C. 653 (1980), and any employees affected by the discontinuance of those trackage rights will be protected by the conditions set out in Oregon Short Line Railroad—Abandonment Portion Goshen Branch Between Firth & Ammon, in Bingham & Bonneville Counties, Idaho, 360 I.C.C. 91 (1979).

This notice is filed under 49 CFR 1180.2(d)(8). If it contains false or misleading information, the exemption is void ab initio. Petitions to revoke the exemption under 49 U.S.C. 10502(d) may be filed at any time. The filing of a petition to revoke will not automatically stay the effectiveness of the exemption. Petitions for stay must be filed no later than November 16, 2012 (at least 7 days before the exemption becomes effective).

An original and 10 copies of all pleadings, referring to Docket No. FD 35690, must be filed with the Surface Transportation Board, 395 E Street SW., Washington, DC 20423-0001. In addition, a copy of each pleading must be served on Roy J. Christensen, Johnson, Killen & Seiler, P.A., 230 W. Superior Street, Suite 800, Duluth, MN 55802.

Board decisions and notices are available on our Web site at www.stb.dot.gov.

Decided: November 5, 2012.
By the Board, Richard Armstrong, Acting Director, Office of Proceedings.
Derrick A. Gardner,
Clearance Clerk.

[FR Doc. 2012-27535 Filed 11-8-12; 8:45 am]

BILLING CODE 4915-01-P